DEPARTMENT OF COMMERCE

National Oceanic and Atmospheric Administration

U.S. Integrated Ocean Observing System (IOOS®) Advisory Committee

AGENCY: National Ocean Service, National Oceanic and Atmospheric Administration (NOAA), Department of Commerce.

ACTION: Notice of availability for final programmatic environmental assessment and finding of no significant impact.

SUMMARY: The U.S. IOOS office, National Ocean Service (NOS), National Oceanic and Atmospheric Administration (NOAA), has finalized a Programmatic Environmental Assessment (PEA) which analyzed the potential environmental impacts associated with ocean observing activities including sensors and instrumentation; vessels (including personal watercraft) and sampling; autonomous underwater vehicles (AUV), gliders, and drifters; moorings, marine stations, buoys, and fixed arrays; High Frequency radar (HF radar); and sound navigation and ranging (sonar) and light detection and ranging (lidar) and prepared a Finding of No Significant Impact (FONSI) to the environmental resources within U.S. IOOS regions.

In parallel with the preparation of the draft and final PEA, IOOS initiated and completed a technical review consultation with National Marine Fisheries Service (NMFS) Office of Habitat Conservation Essential Fish Habitat (EFH), regarding the Magnuson-Stevens Act. Furthermore, subsequent to extensive discussion with and training by NMFS Office of Protected Resources (OPR) under the National Marine Sanctuaries, Endangered Species and Marine Mammal Protection Acts, it has been determined that IOOS observing activities would have negligible or no impact to environmental resources under the proposed action. The IOOS proposed action provides a mitigation strategy to address any unique situations, on a site-specific basis, as more information becomes available.

The final PEA and signed FONSI are posted on the IOOS Web site at https://ioos.noaa.gov/about/governance-and-management/environmental-compliance/.

FOR FURTHER INFORMATION CONTACT: Regina Evans, U.S. IOOS Program, 1315 East-West Highway, 2nd Floor, Silver Spring, MD 20910, Silver Spring, MD 20910; Phone 240-533-9468; Fax 301-713-3281; Email regina.evans@noaa.gov.

SUPPLEMENTARY INFORMATION: Observing activities support the core mission of U.S. IOOS: systematic provision of readily accessible marine environmental data and data products in an interoperable, reliable, timely, and user-specified manner to end-users/customers to serve seven critical and expanding societal needs: (1) Improve predictions of climate change and weather and their effects on coastal communities and the nation; (2) Improve the safety and efficiency of maritime operations; (3) More effectively mitigate the effects of natural hazards; (4) Improve national and homeland security; (5) Reduce public health risks; (6) More effectively protect and restore healthy coastal ecosystems; and (7) Enable the sustained use of ocean and coastal resources.

IOOS's conclusion of no significant impact is based on the best available scientific data and consultations with underwater acoustic experts and biologists from NMFS. Special emphasis was placed on the impacts to marine mammals, endangered species, and essential fish habitat. IOOS has adopted conservation recommendations from EFH and project design criteria (PDC), or best management practices, which were created to avoid adverse effects to all ESA-listed species and designated critical habitats from OPR. As implemented, the conservation recommendations and PDCs would insure that all U.S. IOOS funded activities (individually and in aggregate) avoid adverse effects to protected resources.

Dated: July 26, 2016.
Zdenka Willis,
Director, U.S. Integrated Ocean Observing System Office.

[FR Doc. 2016-18842 Filed 8-8-16; 8:45 am]

BILLING CODE P